DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Union Pacific Railroad Company

[Waiver Petition Docket Number FRA-2004-18896]

The Union Pacific Railroad Company (UPRR) seeks a waiver of compliance with the Locomotive Safety Standards, 49 CFR 229.49(a)(1) and with the Brake System Safety Standards 49 CFR 232.103(o)(2), as they pertain to main reservoir safety valve setting and minimal deferential between brake pipe and main reservoir air pressure on UPRR locomotives. The railroad states in their request that their locomotive safety valves are set at 150 (one hundred fifty) pounds-per-square-inch (psi) and the maximum working pressure of 125 psi (one hundred twenty-five) creating a 25 (twenty-five) psi differential. Locomotive safety standards (49 CFR 229.46(a)(1) requires that the main reservoir system of each locomotive shall be equipped with at least one safety valve that shall prevent an accumulation of pressure of more than 15 pounds per square inch above the maximum working air pressure and Brake System Safety Standards (49 CFR 232.103(o)(2)) requires minimum differential 15 psi between brake pipe and main reservoir air pressures, with brake valve in running position. UPRR adjusted its fleet of locomotives maximum working air pressure from 135 psi to125 psi in the late 1970's as a method to conserve fuel. The 150 psi safety valve setting was maintained so that UPRR locomotives remained compatible when operated in consist with foreign locomotives. UPRR has operated their locomotives with the 125 psi maximum working air pressure for over twenty-five years and reports no adverse effect.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (FRA-2004-18896) and must be submitted to the Docket Clerk, DOT Docket Management Facility, Room PL-401 (Plaza Level), 400 7th Street, SW., Washington, DC 20590. Communications received within 45 days of the date of this notice will be considered by FRA before final action is taken. Comments received after that date will be considered as far as practicable. All written communications concerning these proceedings are available for examination during regular business hours (9 a.m.—5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-19478). The Statement may also be found at http://dms.dot.gov.

Issued in Washington, DC, on October 12, 2004.
Grady C. Cothen, Jr.,
Acting Associate Administrator for Safety.

[FR Doc. 04-23386 Filed 10-18-04; 8:45 am]

BILLING CODE 4910-06-P